DEPARTMENT OF LABOR

Employment and Training Administration

Public Meeting of the Advisory Committee on Apprenticeship (ACA)

AGENCY: Employment and Training Administration (ETA), Labor.

ACTION: Notice of a public meeting.

SUMMARY: Pursuant to the Federal Advisory Committee Act (FACA), notice is hereby given to announce a public meeting of the ACA to be held on Thursday, April 28, 2022. The meeting will be held in-person at the U.S. Department of Labor (DOL), Francis Perkins Building, 200 Constitution Avenue NW, Washington, DC 20210. All meetings of the ACA are open to the public.

DATES: The meeting will begin at approximately 9:30 a.m. Eastern Standard Time on Thursday, April 28, 2022, and adjourn at approximately 5:00 p.m. Due to COVID-19 safety protocols, and the need to limit the number of in-person participants, members of the public are asked to join the meeting virtually. The DOL can accommodate 3,000 virtual participants. For any member of the public unable to join the meeting virtually on April 28, 2022, please note that a meeting summary will be posted on the Office of Apprenticeship's website at: https://www.apprenticeship.gov/advisory-committee-apprenticeship/meetings.

FOR FURTHER INFORMATION CONTACT: The Designated Federal Officer, Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee reestablished by the Secretary of Labor on May 4, 2021, in accordance with FACA (5 U.S.C. app. 2 10), as amended in 5 U.S.C. app. 2, and its implementing regulations (41 CFR 101-6 and 102-3). The first meeting of the ACA was held on Wednesday, October 6, 2021, the second meeting of the ACA was held on Wednesday, January 26, 2022, the third meeting is being held on Thursday, April 28, 2022.

Instructions to Attend the Meeting: All meetings are open to the public and in order to promote openness, and increase public participation, webinar and audio conference technology will be used to convene the meeting. The login instructions outlined below will also be posted prominently on the Office of Apprenticeship's website at: https://www.apprenticeship.gov/advisory-committee-apprenticeship/meetings. If individuals have special needs and/or disabilities that will require special accommodations, please contact Kenya Huckaby at (202) 693-3795 or via email at huckaby.kenya@dol.gov no later than Thursday, April 21, 2022.

Virtual Log-In Instructions: Members of the public should join the meeting virtually using the following link, please use the access code if you are joining by phone and use the event password if you are joining by computer.

Link: https://usdolevents.webex.com/usdolevents/j.phpMTID=m647e892b37421c5f37431b836ab6ff56.

Telephone Users: VoIP or dial 877-465-7975; Access code: 2761 990 0648.

Computer Users: Event password: Welcome!24.

Any member of the public who wishes to file written data or comments pertaining to the agenda may do so by sending the data or comments to Mr. John V. Ladd via email at AdvisoryCommitteeonApprenticeship@dol.gov, subject line “April 2022 ACA Meeting.” Such submissions will be included in the record for the meeting if received by Thursday, April 21, 2022. See below regarding members of the public wishing to speak at the ACA meeting.

Purpose of the Meeting and Topics To Be Discussed: The primary purpose of the April meeting is for the ACA to discuss and approve the final Six-Month Interim report. Anticipated agenda topics for this meeting include the following:

• Subcommittee Final Presentations and Discussion

• Departmental Remarks

• Full Committee Vote on Six-Month Interim Report

• Industry and Federal Workforce Initiatives

• Road Map Ahead and Implications for Future Topics

• Public Comment

• Adjourn

The agenda and meeting logistics may need to be updated should priority items emerge between the time of this publication and the scheduled date of the ACA meeting. All meeting updates will be posted to the Office of Apprenticeship's website at: https://www.apprenticeship.gov/advisory-committee-apprenticeship/meetings. Any member of the public who wishes to speak at the meeting should indicate the nature of the intended presentation and the amount of time needed by furnishing a written statement to the Designated Federal Officer, Mr. John V. Ladd, via email at AdvisoryCommitteeonApprenticeship@dol.gov, by Thursday, April 21, 2022. The Chairperson will announce at the beginning of the meeting the extent to which time will permit the granting of such requests.

Angela Hanks,
Acting Assistant Secretary for Employment and Training, Labor.

[FR Doc. 2022-07974 Filed 4-13-22; 8:45 am]

BILLING CODE 4510-FR-P